FEDERAL MARITIME COMMISSION

Ocean Transportation Intermediary License Revocations

The Commission gives notice that the following Ocean Transportation Intermediary licenses have been revoked pursuant to section 19 of the Shipping Act of 1984 (46 U.S.C. 40101) effective on the date shown.

License No.: 3184F.

Name: Alliance International Forwarders, Inc.

Address: 7155 Old Katy Road, Suite 100 South, Houston, TX 77024.

Date Revoked: September 6, 2012.

Reason: Failed to maintain a valid bond.

License No.: 003977F.

Name: A Active Freezone Cargo, Inc.

Address: 2315 NW 107th Avenue, Suite 1M2, Box #55, Miami, FL 33172.

Date Revoked: September 1, 2012.

Reason: Failed to maintain a valid bond.

License No.: 4571F.

Name: Logistics, Inc.

Address: 313 West Arundel Road, Baltimore, MD 21225.

Date Revoked: September 21, 2012.

Reason: Failed to maintain a valid bond.

License No.: 011737N.

Name: All Nat, Inc.

Address: 1205 W. North Carrier Pkwy., Grand Prairie, TX 75050.

Date Revoked: September 14, 2012.

Reason: Failed to maintain a valid bond.

License No.: 12079N.

Name: LTS Shipping Corp.

Address: 7155 Old Katy Road, Suite 100 South, Houston, TX 77024.

Date Revoked: September 6, 2012.

Reason: Failed to maintain a valid bond.

License No.: 015342F.

Name: Harold Kass-World Wide Moving, Inc. dba HK Worldwide Moving, Inc.

Address: 3641 S. Washtenaw Avenue, Chicago, IL 60632.

Date Revoked: September 22, 2012.

Reason: Failed to maintain a valid bond.

License No.: 016012F.

Name: Samari Global Trade, Inc.

Address: 1310 Beach Avenue, Bronx, NY 10472.

Date Revoked: September 10, 2012.

Reason: Failed to maintain a valid bond.

License No.: 017864F.

Name: Navivan Corp.

Address: 200 Crofton Road, Suite 2, Bldg. 10-B, Kenner, LA 70062.

Date Revoked: September 6, 2012.

Reason: Failed to maintain a valid bond.

License No.: 017881N.

Name: Seair International Inc.

Address: 147-39 175th Street, Suite 201, Jamaica, NY 11434.

Date Revoked: September 8, 2012.

Reason: Failed to maintain a valid bond.

License No.: 018156F.

Name: Cargo Alliance Inc.

Address: 583 Monterey Pass Road, Suite C, Monterey Park, CA 91754.

Date Revoked: September 5, 2012.

Reason: Failed to maintain a valid bond.

License No.: 018841N.

Name: Canaan Int'l Freight, Inc.

Address: 179-02 150th Avenue, Jamaica, NY 11434.

Date Revoked: September 19, 2012.

Reason: Failed to maintain a valid bond.

License No.: 019327N.

Name: David A. Knott dba Dak Logistics Services.

Address: 131-E Sunset Avenue, Suite 210, Suisun City, CA 94585.

Date Revoked: September 28, 2012.

Reason: Failed to maintain a valid bond.

License No.: 020151NF.

Name: United Global Logistics, LLC.

Address: 1139 East Jersey Street, Suite 417, Elizabeth, NJ 07201.

Date Revoked: September 10, 2012.

Reason: Failed to maintain valid bonds.

License No.: 020872N.

Name: Smart Freight Corp.

Address: 430 West Merrick Road, Suite 26, Valley Stream, NY 11580.

Date Revoked: September 21, 2012.

Reason: Failed to maintain a valid bond.

License No.: 020991N.

Name: Cargo Alliance Logistics Inc. dba Change Group Logistics.

Address: 111 John Street, 19th Floor, New York, NY 10038.

Date Revoked: September 22, 2012.

Reason: Failed to maintain a valid bond.

License No.: 021098F.

Name: MG Forwarding, LLC.

Address: 2919 SW 17th Street, Miami, FL 33145.

Date Revoked: October 1, 2012.

Reason: Voluntary surrender of license.

License No.: 021953F.

Name: Express Shipping Company of Illinois.

Address: 670 E. Northwest Highway, 2nd Floor, Arlington Heights, IL 60004.

Date Revoked: September 2, 2012.

Reason: Failed to maintain a valid bond.

License No.: 022119F.

Name: Rom Enterprise, Inc. dba Monark Worldwide.

Address: 22122 Sherman Way, Suite 203, Canoga Park, CA 91303.

Date Revoked: September 22, 2012.

Reason: Failed to maintain a valid bond.

License No.: 022878F.

Name: A-1 Fargo Van and Storage, Inc.

Address: 7700 SW 100th Street, Miami, FL 33156.

Date Revoked: September 22, 2012.

Reason: Failed to maintain a valid bond.

License No.: 023316N.

Name: Morgan USA Logistics Inc.

Address: 145-40 157th Street, Suite F-1, Jamaica, NY 11434.

Date Revoked: September 14, 2012.

Reason: Failed to maintain a valid bond.

License No.: 023320N.

Name: Translink International, Inc.

Address: 2591 Highway 17, Suite 203, Richmond Hill, GA 31324.

Date Revoked: September 5, 2012.

Reason: Failed to maintain a valid bond.

License No.: 022384NF.

Name: Seacrest Logistics Inc.

Address: 1500 S. Dairy Ashford Road, Suite 451, Houston, TX 77077.

Date Revoked: September 3, 2012.

Reason: Failed to maintain valid bonds.

License No.: 023500F.

Name: IMAC International Corp.

Address: 527 Albert Street, East Meadow, NY 11554.

Date Revoked: September 10, 2012.

Reason: Failed to maintain a valid bond.

James A. Nussbaumer,
Deputy Director, Bureau of Certification and Licensing.

[FR Doc. 2012-26219 Filed 10-23-12; 8:45 am]

BILLING CODE 6730-01-P